INTERNATIONAL TRADE COMMISSION

[Investigation No. 337-TA-630]

In the Matter of Certain Semiconductor Chips With Minimized Chip Package Size and Products Containing Same (III); Notice of Commission Determination Not To Review an Initial Determination Granting Joint Motion To Terminate Investigation as to One Respondent Based on Consent Order and Settlement Agreement

AGENCY: U.S. International Trade Commission.

ACTION: Notice.

SUMMARY: Notice is hereby given that the U.S. International Trade Commission has determined not to review an initial determination (“ID”) (Order No. 17) granting a joint motion to terminate the investigation as to one respondent based on a consent order and settlement agreement.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal at (202) 205-1810.

SUPPLEMENTARY INFORMATION: This investigation was instituted on January 14, 2008, based upon a complaint filed on behalf of Tessera, Inc. of San Jose, California (“Tessera”), on December 21, 2007, and supplemented on December 28, 2007. 73 FR 2276 (January 14, 2008). The complaint alleged violations of subsection (a)(1)(B) of section 337 of the Tariff Act of 1930 (19 U.S.C. 1337) in the importation into the United States, the sale for importation, and the sale within the United States after importation of certain semiconductor chips with minimized chip package size or products containing same by reason of infringement of various claims of United States Patent Nos. 5,663,106; 5,679,977; 6,133,627; and 6,458,681 (“the '681 patent”). The notice of investigation named eighteen firms as respondents.

On June 20, 2008, the Commission issued notice of its determination not to review an ID terminating the investigation with respect to the '681 patent.

On May 23, 2008, Tessera and respondent International Products Sourcing Group, Inc., filed a motion pursuant to Commission Rule 210.21(b) and (c) to terminate the investigation based upon a settlement agreement and consent order. On June 16, 2008, the presiding administrative law judge issued the subject ID, granting the motion. No petitions for review were filed. The Commission has determined not to review the subject ID.

This action is taken under the authority of section 337 of the Tariff Act of 1930, as amended (19 U.S.C. 1337), and of section 210.42(h) of the Commission's Rules of Practice and Procedure (19 CFR 210.42(h)).

By order of the Commission.
Issued: July 14, 2008.
Marilyn R. Abbott,
Secretary to the Commission.

[FR Doc. E8-16479 Filed 7-17-08; 8:45 am]

BILLING CODE 7020-02-P